DEPARTMENT OF LABOR

Employment Standards Administration

Wage and Hour Division

29 CFR Part 825

Request for Information on the Family and Medical Leave Act of 1993; Extension of Comment Period

AGENCY: Employment Standards Administration, Wage and Hour Division, Department of Labor.

ACTION: Request for Information from the Public; extension of comment period.

SUMMARY: This notice extends the period for comments to be submitted on the request for information (“RFI”) published on December 1, 2006 (71 FR 69504) related to the Family and Medical Leave Act of 1993 (the “FMLA” or the “Act”). That request for information invites the public to provide information to the Department of Labor (“Department”) to assist in its consideration and review of the Department's administration of the Act and the implementing regulations. The Department has received inquiries regarding the possibility of extending the comment period, particularly since the RFI was published in December and part of the comment period fell over the holidays. The comment period, which was to expire on February 2, 2007, is hereby extended 14 days to February 16, 2007 at 5 p.m. (EST).

DATES: Public comments should be received by no later than 5 p.m. EST, February 16, 2007.

ADDRESSES: Address all written submissions to Richard M. Brennan, Senior Regulatory Officer, Wage and Hour Division, Employment Standards Administration, U.S. Department of Labor, Room S-3502, 200 Constitution Avenue, NW., Washington, DC 20210. Because we continue to experience delays in receiving mail in the Washington, DC area, individuals are encouraged to submit any information by mail early, or to transmit them electronically through the link to www.regulations.gov. You may also submit comments of 20 pages or less by Fax machine to (202) 693-1432, which is not a toll-free number, or by e-mail to: whdcomments@dol.gov. Duplicate comments submitted by more than one method are not necessary as they will be counted as one comment.

FOR FURTHER INFORMATION CONTACT: Richard M. Brennan, Senior Regulatory Officer, Wage and Hour Division, Employment Standards Administration, U.S. Department of Labor, Room S-3502, 200 Constitution Avenue, NW., Washington, DC 20210; telephone: (202) 693-0066 (this is not a toll free number).

SUPPLEMENTARY INFORMATION: In the Federal Register of December 1, 2006 (71 FR 69504), the Department published a request for information from the public to assist the Department in its consideration and review of the administration of the Family and Medical Leave Act of 1993 and the implementing regulations.

Interested persons were invited to submit comments on or before February 2, 2007. The Department has received inquiries regarding the possibility of extending the comment period, particularly since the RFI was published in December and part of the comment period fell over the holidays. The comment period, which was to expire on February 2, 2007, is hereby extended 14 days to February 16, 2007 at 5 p.m. (EST).

The complete request for information remains available on the Department's Web site at http://www.dol.gov/esa/whd/fmlacomments.htm. Anyone who is unable to access this information on the Internet can obtain a copy by contacting Richard M. Brennan, Senior Regulatory Officer, Wage and Hour Division, Employment Standards Administration, U.S. Department of Labor, Room S-3502, 200 Constitution Avenue, NW., Washington, DC 20210, or (202) 693-0066 (this is not a toll-free number). Individuals with hearing impairments may call 1-877-889-5627 (TTY/TDD).

Signed at Washington, DC, this 24th day of January, 2007.
Victoria A. Lipnic,
Assistant Secretary for Employment Standards.
Paul DeCamp,
Administrator, Wage and Hour Division.

[FR Doc. 07-353 Filed 1-25-07; 8:45 am]

BILLING CODE 4510-27-P